DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

New Jersey Transit Corporation

[Supplement to Waiver Petition Docket Number FRA-1999-6135]

As a supplement to New Jersey Transit Corporation's (NJ Transit) Petition for Approval of Shared Use and Waiver of Certain FRA Regulations (the original shared use waiver was granted by the FRA Railroad Safety Board on December 3, 1999, and a five year extension was granted by the FRA Railroad Safety Board on May 2, 2005), NJ Transit is making signal improvements between CP45 and CP70 in order to create an “Extended Temporal Separation Mode” of operation. This will allow NJ Transit and Conrail to safely share a limited and specific section of the River Line outside of the fixed-windows of temporal separation. NJ Transit submits that this request is consistent with the waiver process for Shared Use. See Statement of Agency Policy Concerning Jurisdiction Over the Safety of Railroad Passenger Operations and Waivers Related to Shared Use of the Tracks of the General Railroad System by Light Rail and Conventional Equipment, 65 FR 42529 (July 10, 2000); see also Joint Statement of Agency Policy Concerning Shared Use of the Tracks of the General Railroad System by Conventional Railroads and Light Rail Transit Systems, 65 FR 42526 (July 10, 2000).

Currently, River Line passenger operations and Conrail operations are temporally-separated, with light rail having exclusive use of the shared track from 6 a.m. until 10 p.m. during the Passenger Period and Conrail maintaining exclusive rights at all other times during the Freight Period. NJ Transit is proposing to make signal improvements that will maintain temporal separation but provide for superior utilization of the existing infrastructure by expanding the Passenger Period and allow Conrail an increased operating flexibility. Specifically, the intent of these improvements is to: enable the provision of passenger service to Route 73 station in Pennsauken during the extended hours of 5:30 a.m. until 12 a.m.; provide additional flexibility and efficiencies for the operation of freight trains, specifically to enable Conrail to operate between Pavonia Yard and Minson Siding/Pennsauken Industrial Track under vitally enforced separation from light rail vehicles during all hours; provide positive train separation through the utilization of active trip stop transponders for light rail encroachment; and power derails for freight encroachment.

NJ Transit further submitted on December 15, 2006, a letter offering clarification and additional information to amend the original petition. First, NJ Transit is formally notifying the FRA that in September of 2004, NJ Transit and Conrail established two separate zones of temporal separation: Zone One from CP45 (Pennsauken) to CP269 (Bordentown), with exclusive Passenger Period from 6 a.m. until 10 p.m., which remains unchanged from the original Shared Use Waiver; Zone Two from CP269 (Bordentown) to CP329 (Trenton) features a revised Passenger Period that starts at 5:45 a.m. until 10 p.m.

Second, as part of the current proposed extended temporal separation between CP45 and CP70, there is potential for a new parallel operation between River Line light rail vehicles and Conrail freight equipment at track centerline distances that in some locations are less than 17-ft. NJ Transit is informing FRA that it will not install an Intrusion Detection System (IDS) in this area as was done previously at two other locations of the River Line. Instead, NJ Transit proposes to maintain an equivalent level of safety by restricting this section of River Line to one mode at a time by prohibiting River Line light rail vehicles from operating between CP45 and CP70 when a Conrail freight train has been authorized through this section.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communication concerning these proceedings should identify the appropriate docket number (e.g., Waiver Petition Docket Number FRA-1999-6135) and must be submitted to the Docket Clerk, DOT Docket Management Facility, Room PL-401 (Plaza Level), 400 7th Street, SW., Washington, D.C. 20590. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC on January 9, 2007.
Grady C. Cothen,
Deputy Associate Administrator, for Safety Standards and Program Development.

[FR Doc. E7-318 Filed 1-11-07; 8:45 am]

BILLING CODE 4910-06-P